DEPARTMENT OF HEALTH AND HUMAN SERVICES

Centers for Disease Control and Prevention

Multi-Agency Informational Meeting Concerning Compliance With the Federal Select Agent Program; Public Webcast

AGENCY: Centers for Disease Control and Prevention (CDC), Department of Health and Human Services (HHS).

ACTION: Notice of public Webcast.

SUMMARY: The HHS Centers for Disease Control and Prevention's Division of Select Agents and Toxins (DSAT) and the USDA Animal and Plant Health Inspection Service (APHIS), Agriculture Select Agent Services (AgSAS) are jointly charged with the oversight of the possession, use and transfer of biological agents and toxins that have the potential to pose a severe threat to public, animal or plant health or to animal or plant products (select agents and toxins). This joint effort constitutes the Federal Select Agent Program. The purpose of the Webcast is to provide guidance related to the Federal Select Agent Program for interested individuals.

DATES: The Webcast will be held on Friday, November 14, 2014 from 10 a.m. to 4 p.m. EST. All who wish to join the Webcast must register by October 24, 2014. Registration instructions can be found on the Web site http://www.selectagents.gov.

ADDRESSES: The Webcast will be broadcast from the Centers for Disease Control and Prevention's facility, 1600 Clifton Road, Atlanta, GA 30333. This will only be produced as a Webcast, therefore no accommodations will be provided for in-person participation.

FOR FURTHER INFORMATION CONTACT:

CDC: Ms. Diane Martin, Division of Select Agents and Toxins, Office of Public Health Preparedness and Response, CDC, 1600 Clifton Road MS A-46, Atlanta, GA 30333; phone: 404-718-2000; email: lrsat@cdc.gov.

APHIS: Dr. Keith Wiggins, APHIS Agriculture Select Agent Services, 4700 River Road, Unit 2, Riverdale, MD 20737; phone: 301-851-3300 (option 3); email: AgSAS@aphis.usda.gov.

SUPPLEMENTARY INFORMATION: The public Webcast is an opportunity for the affected community (i.e., registered entity responsible officials, alternate responsible officials, and entity owners) and other interested individuals to obtain specific regulatory guidance and information concerning biosafety, security and incident response issues related to the Federal Select Agent Program.

Representatives from the Federal Select Agent Program will be present during the Webcast to address questions and concerns from the Web participants.

Individuals who want to participate in the Webcast must complete their registration online by October 24, 2014. The registration instructions are located on this Web site: http://www.selectagents.gov.

Dated: September 15, 2014.
Ron A. Otten,
Acting Deputy Associate Director for Science, Centers for Disease Control and Prevention.

[FR Doc. 2014-22253 Filed 9-17-14; 8:45 am]

BILLING CODE 4163-18-P